DEPARTMENT OF TRANSPORTATION

Federal Aviation Administration

14 CFR Part 39

[Docket No. FAA-2021-0961; Project Identifier MCAI-2021-00924-A; Amendment 39-21935; AD 2022-03-18]

RIN 2120-AA64

Airworthiness Directives; British Aerospace (Operations) Limited and British Aerospace Regional Aircraft Airplanes

AGENCY: Federal Aviation Administration (FAA), DOT.

ACTION: Final rule.

SUMMARY: The FAA is adopting a new airworthiness directive (AD) for certain British Aerospace (Operations) Limited and British Aerospace Regional Aircraft Model Jetstream Series 200, Jetstream Model 3101, and Jetstream Model 3201 airplanes. This AD results from mandatory continuing airworthiness information (MCAI) originated by an aviation authority of another country to identify and correct an unsafe condition on an aviation product. The MCAI identifies the unsafe condition as a bent control rod within the gust lock system, which may enable both power levers to be pushed into the flight range with the gust lock lever fully engaged. This AD requires replacing the push rod assembly with a modified push rod assembly. The FAA is issuing this AD to address the unsafe condition on these products.

DATES: This AD is effective March 21, 2022.

The Director of the Federal Register approved the incorporation by reference of a certain publication listed in this AD as of March 21, 2022.

ADDRESSES: For service information identified in this final rule, contact BAE Systems (Operations) Ltd., Customer Information Department, Prestwick International Airport, Ayrshire, KA9 2RW, Scotland, United Kingdom; phone: +44 3300 488727; fax: +44 1292 675704; email: RApublications@baesystems.com; website: https://www.baesystems.com/Businesses/RegionalAircraft/. You may view this service information at the FAA, Airworthiness Products Section, Operational Safety Branch, 901 Locust, Kansas City, MO 64106. For information on the availability of this material at the FAA, call (817) 222-5110. It is also available at https://www.regulations.gov by searching for and locating Docket No. FAA-2021-0961.

Examining the AD Docket

You may examine the AD docket at https://www.regulations.gov by searching for and locating Docket No. FAA-2021-0961; or in person at Docket Operations between 9 a.m. and 5 p.m., Monday through Friday, except Federal holidays. The AD docket contains this final rule, the MCAI, any comments received, and other information. The address for Docket Operations is U.S. Department of Transportation, Docket Operations, M-30, West Building Ground Floor, Room W12-140, 1200 New Jersey Avenue SE, Washington, DC 20590.

FOR FURTHER INFORMATION CONTACT: Doug Rudolph, Aviation Safety Engineer, General Aviation & Rotorcraft Section, International Validation Branch, FAA, 901 Locust, Room 301, Kansas City, MO 64106; phone: (816) 329-4059; email: doug.rudolph@faa.gov.

SUPPLEMENTARY INFORMATION:

Background

The FAA issued a notice of proposed rulemaking (NPRM) to amend 14 CFR part 39 by adding an AD that would apply to certain serial-numbered British Aerospace (Operations) Limited and British Aerospace Regional Aircraft Model Jetstream Series 200, Jetstream Model 3101, and Jetstream Model 3201 airplanes. The NPRM published in the Federal Register on November 12, 2021 (86 FR 62742). The NPRM was prompted by MCAI originated by the Civil Aviation Authority (CAA), which is the aviation authority for the United Kingdom. CAA has issued CAA AD G-2021-0005, dated August 3, 2021 (referred to after this as “the MCAI”), to address an unsafe condition on certain serial-numbered BAE Systems (Operations) Ltd. Model Jetstream Series 3100 and Series 3200 airplanes. The MCAI states:

On 8 October 2019, a Jetstream Series 3200 aircraft aborted take-off at a speed of approximately 130 kt and veered off the runway. The investigation into the serious incident concluded the take-off was initiated with an engaged Gust Lock Mechanism, resulting in a temporary loss of aircraft control. Damage was identified in the Gust Lock mechanism, which allowed both power levers to be moved beyond flight idle with the gust locks engaged.

The serious incident investigation determined that a bent control rod within the gust lock system made it possible to move both power levers simultaneously to the max position, even though the gust locks were still engaged.

The gust-lock system is designed to lock and prevent damage to the control surfaces when the aircraft is parked during gusting wind conditions. The system contains a mechanical baulk which prevents both power levers from being moved beyond the flight idle position when the gust locks are engaged.

Three previous occurrences in which a bent control rod enabled both power levers to be moved simultaneously beyond the flight idle position while the gust lock system was engaged have been identified by the Type Certificate Holder. Service Bulletin 27-JM 5350 was first published in 1992 to introduce a stronger control rod.

This condition, if not prevented, could lead to partial or total loss of aircraft control. To address this potential unsafe condition, this [CAA] AD mandates the installation of a modified push rod assembly.

BAE Systems operating manuals contain pre-flight checks that are designed to ensure the gust locks are not engaged during take-off.

You may examine the MCAI in the AD docket at https://www.regulations.gov by searching for and locating Docket No. FAA-2021-0961.

In the NPRM, the FAA proposed to require replacing the push rod assembly with a modified push rod assembly. The FAA is issuing this AD to address the unsafe condition on this product.

Discussion of Final Airworthiness Directive

Comments

The FAA received no comments on the NPRM or on the determination of the costs.

Conclusion

This product has been approved by the aviation authority of another country and is approved for operation in the United States. Pursuant to the FAA's bilateral agreement with this State of Design Authority, it has notified the FAA of the unsafe condition described in the MCAI and service information referenced above. The FAA reviewed the relevant data and determined that air safety and the public interest require adopting this AD as proposed. Accordingly, the FAA is issuing this AD to address the unsafe condition on these products. This AD is adopted as proposed in the NPRM.

Related Service Information Under 1 CFR Part 51

The FAA reviewed Jetstream Series 3100/3200 Service Bulletin 27-JM 5350, Revision 1, dated May 6, 1994. This service information specifies procedures for replacing push rod assembly part number (P/N) 137201E419 with push rod assembly P/N 137201E429. This service information is reasonably available because the interested parties have access to it through their normal course of business or by the means identified in the ADDRESSES section.

Differences Between This AD and the MCAI

The MCAI does not apply to the Model Jetstream Series 200, whereas this AD includes the Model Jetstream Series 200 because this model has an FAA type certificate and shares a similar type design in the affected area. The MCAI and service information apply to Model Jetstream Series 3100 and Jetstream Series 3200 airplanes, which are identified on the FAA type certificates as Jetstream Model 3101 and Jetstream Model 3201 airplanes, respectively.

Costs of Compliance

The FAA estimates that this AD affects 43 airplanes of U.S. registry.

The FAA estimates that it would take about 6 work-hours per airplane to replace the push rod assembly. The average labor rate is $85 per work-hour. Required parts would cost about $300 per airplane.

Based on these figures, the FAA estimates the cost on U.S. operators to be $34,830 or $810 per airplane.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-03-18 British Aerospace (Operations) Limited and British Aerospace Regional Aircraft: Amendment 39-21935; Docket No. FAA-2021-0961; Project Identifier MCAI-2021-00924-A.

(a) Effective Date

This airworthiness directive (AD) is effective March 21, 2022.

(b) Affected ADs

None.

(c) Applicability

This AD applies to British Aerospace (Operations) Limited and British Aerospace Regional Aircraft Model Jetstream Series 200, Jetstream Model 3101, and Jetstream Model 3201 airplanes, serial numbers 1 through 927 and 929 through 936 inclusive, certificated in any category.

(d) Subject

Joint Aircraft System Component (JASC) Code 2770, Gust Lock/Damper System.

(e) Unsafe Condition

This AD was prompted by mandatory continuing airworthiness information (MCAI) originated by an aviation authority of another country to identify and correct an unsafe condition on an aviation product. The MCAI describes the unsafe condition as a bent control rod within the gust lock system, which may enable both power levers to be pushed into the flight range with the gust lock lever fully engaged. The FAA is issuing this AD to detect and correct bent push rod assemblies of the power lever baulk system. The unsafe condition, if not addressed, could result in loss of airplane control.

(f) Compliance

Comply with this AD within the compliance times specified, unless already done.

(g) Action

Within 2 years after the effective date of this AD, replace push rod assembly part number (P/N) 137201E419 with push rod assembly P/N 137201E429 by following the Accomplishment Instructions, sections 2.A. through 2.C. in Jetstream Series 3100/3200 Service Bulletin 27-JM 5350, Revision 1, dated May 6, 1994.

(h) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (i)(1) of this AD and email to: 9-AVS-AIR-730-AMOC@faa.gov.

(2) Before using any approved AMOC, notify your appropriate principal inspector, or lacking a principal inspector, the manager of the local flight standards district office/certificate holding district office.

(i) Related Information

(1) For more information about this AD, contact Doug Rudolph, Aviation Safety Engineer, General Aviation & Rotorcraft Section, International Validation Branch, FAA, 901 Locust, Room 301, Kansas City, MO 64106; phone: (816) 329-4059; email: doug.rudolph@faa.gov.

(2) Refer to Civil Aviation Authority (CAA) AD G-2021-0005, dated August 3, 2021, for more information. You may examine the CAA AD at https://www.regulations.gov by searching for and locating Docket No. FAA-2021-0961.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Jetstream Series 3100/3200 Service Bulletin 27-JM 5350, Revision 1, dated May 6, 1994.

(ii) [Reserved]

(3) For service information identified in this AD, contact BAE Systems (Operations) Ltd., Customer Information Department, Prestwick International Airport, Ayrshire, KA9 2RW, Scotland, United Kingdom; phone: +44 3300 488727; fax: +44 1292 675704; email: RApublications@baesystems.com; website: https://www.baesystems.com/Businesses/RegionalAircraft/.

(4) You may view this service information at the FAA, Airworthiness Products Section, Operational Safety Branch, 901 Locust, Kansas City, MO 64106. For information on the availability of this material at the FAA, call (817) 222-5110.

(5) You may view this service information that is incorporated by reference at the National Archives and Records Administration (NARA). For information on the availability of this material at NARA, email: fr.inspection@nara.gov, or go to: https://www.archives.gov/federal-register/cfr/ibr-locations.html.

Issued on January 26, 2022.
Lance T. Gant,
Director, Compliance & Airworthiness Division, Aircraft Certification Service.

[FR Doc. 2022-03030 Filed 2-11-22; 8:45 am]

BILLING CODE 4910-13-P